DEPARTMENT OF TRANSPORTATION

Federal Aviation Administration

Notice of Intent To Prepare an Environmental Impact Statement: West Bend Municipal Airport, West Bend, WI

AGENCY: Federal Aviation Administration, Department of Transportation.

ACTION: Issuance of notice of intent to prepare an Environmental Impact Statement and to conduct scoping meetings.

SUMMARY: The Federal Aviation Administration (FAA) is issuing this notice to advise the public that an Environmental Impact Statement (EIS) will be prepared to assess the potential impacts of proposed improvements at West Bend Municipal Airport. The FAA plans to hold scoping meetings to obtain input from Federal, State, local agencies, other interested parties, and the general public regarding the EIS.

FOR FURTHER INFORMATION CONTACT: Mr. Daniel J. Millenacker, Program Manager, Federal Aviation Administration, Airports District Office, 6020 28th Avenue South, Room 102, Minneapolis, Minnesota, 55450-2706. Phone (612) 713-4350.

SUPPLEMENTARY INFORMATION: This notice announces that the FAA and the Wisconsin Department of Transportation (WisDOT), will prepare a joint EIS for proposed improvements at West Bend Municipal Airport. The lead agency for the preparation of the EIS is the FAA. The WisDOT will serve as a joint-lead (co-lead) agency with the FAA. The EIS will be both a Federal and State document prepared in accordance with NEPA and the Wisconsin Environmental Policy Act (WEPA). All portions of the document will apply to both statutes, unless otherwise noted in the text. Scoping meeting(s) will be conducted as joint FAA and WisDOT meetings.

As presently conceived by the airport owner (The City of West Bend, WI) the proposed improvements include: Construction of a new 5,500 ft x 100 ft Runway 7/25 with full instrument landing system (ILS) having Category I (CAT I) capability and associated navigational aids (NAVAIDs); construction of a full parallel taxiway to new Runway 7/25; hangar area development; land acquisition; widening and rerouting of Highway 33 around the north side of the airport between North Trenton Road and 4,000 ft east of North Oak Road.

A draft Final Environment Assessment (EA) was prepared in March 2005 to assess the proposed improvements at West Bend Municipal Airport. Informal review of the draft Final EA resulted in a decision to proceed to an EIS. The need to prepare an EIS is based on the procedures described in FAA Order 5050.4B, “National Environmental Policy Act (NEPA) Implementing Instructions for Airport Actions,” and FAA Order 1050.1E, “Environmental Impacts: Policies and Procedures.”

The proposed improvements would involve discharges of dredged and fill material into waters of the United States which are regulated under Section 404 of the Clean Water Act. The U.S. Army Corps of Engineers St. Paul District (Corps) has the permitting responsibility for discharges into waters of the United States associated with the proposed improvements. The FAA will pursue an integrated NEPA/Section 404 permit process for this EIS in cooperation with the Corps.

At a minimum, the Corps and the Federally Highway Administration (FHWA) will be invited to serve as cooperating agencies with FAA in development of this EIS. The FHWA involvement will focus on the road widening and rerouting aspects of Highway 33. The Corps, in its role as a cooperating agency, will use the EIS in making its decision on whether to issue a section 404 permit under the Clean Water Act.

To the fullest extent possible, the EIS will be integrated with analysis and consultation required by the Endangered Species Act of 1973, as amended (Pub. L. 93-205; 16 U.S.C. 1531 et seq.); the Magnuson-Stevens Fishery Conservation and Management Act, as amended (Pub. L. 94-265; 16 U.S.C. 1801, et seq.), the National Historic Preservation Act of 1966, as amended (Pub. L. 89-655; 16 U.S.C. 470, et seq.); the Fish and Wildlife Coordination Act of 1958, as amended (Pub. L. 85-624; 16 U.S.C. 742a, et seq. and 661-666c); and the Clean Water Act of 1977, as amended (Pub. L. 92-500; 33 U.S.C. 1251, et seq.); and all applicable and appropriate Executive Orders.

The EIS will include identification of the project's purpose and need, the evaluation of the no action alternative and reasonable alternatives that may be identified during the agency and public scoping meetings. The EIS will also identify all environmental impacts as applicable, including but not limited to, noise impacts, impacts on air and water quality, wetlands, ecological resources, floodplains, historic resources, hazardous materials, and socioeconomics.

Scoping Meetings: To ensure that all substantive issues related to the proposed action are identified, the FAA will hold two (2) governmental agency and one (1) public scoping meeting(s) to solicit input from the public, interested parties, and various Federal, State and local agencies having jurisdiction or having specific expertise with respect to any environmental impacts associated with the proposed improvements. The first governmental agency scoping meeting will be held from 9 a.m. until 12 p.m. Central Standard Time (CST) on October 11, 2006, at the Clairemont Inn and Meeting Center located at 2520 West Washington Street, West Bend, Wisconsin 53095. The public scoping meeting will be held from 4 p.m. until 8 p.m. CST on this same date at this same location. The second governmental agency scoping meeting will be held from 10 a.m. until 12 p.m. CST on October 19, 2006, at West Bend Municipal Airport, EAA Chapter 1158 Building, 310 Aerial Drive, West Bend, WI, 53095.

Comments and suggestions are invited from Federal, State, local agencies, other interested parties, and the general public to ensure that the full range of issues related to the proposed improvements are addressed and all substantive issues are identified. Copies of scoping documentation providing additional detail can be obtained by contacting the FAA representative at the address provided, above. Written comments and suggestions may be mailed to the FAA informational contact listed above and must be postmarked no later than November 13, 2006.

Questions may also be directed to the FAA informational contact listed above.

Issued in Minneapolis, Minnesota, on August 25, 2006.
Robert A. Huber,
Manager, Minneapolis Airports District Office, FAA, Great Lakes Region.

[FR Doc. 06-7460 Filed 9-5-05; 8:45 am]

BILLING CODE 4910-13-M